FEDERAL MARITIME COMMISSION

Sunshine Act Meetings

DATE AND TIME: September 21, 2023; 1:00 p.m.

PLACE: The meeting will be held at the Surface Transportation Board at the address below and also streamed live at https://www.youtube.com/channel/UCwKTAlGGHIA0xcN3bDt_Uqg.

Surface Transportation Board, 395 E Street SW, Room #1042 (Hearing Room), Washington, DC 20423

STATUS: The meeting will be held on September 21, 2023, beginning at 1:00 p.m. in the Hearing Room of the Surface Transportation Board and will be open for public observation. If technical issues prevent the Commission from streaming live, the Commission will post a recording of the meeting as soon as possible on the Commission's web page at www.fmc.gov. Any person wishing to attend the meeting in-person should report to Surface Transportation Board with enough time to clear building security procedures.

MATTERS TO BE CONSIDERED:

1. Staff Briefing, Ocean Shipping Reform Act of 2022

2. Staff Briefing, Consumer Affairs and Dispute Resolution Services

CONTACT PERSON FOR MORE INFORMATION: Amy Strauss, Acting Secretary, (202) 523-5725.

Jason Guthrie,
Federal Register Alternate Liaison Officer, Federal Maritime Commission.

[FR Doc. 2023-20056 Filed 9-12-23; 4:15 pm]

BILLING CODE 6730-02-P